DEPARTMENT OF HEALTH AND HUMAN SERVICES

Centers for Disease Control and Prevention

[60Day-18-0571; Docket No. CDC-2018-0017]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “Minimum Data Elements (MDEs) for the National Breast and Cervical Cancer Early Detection Program (NBCCEDP).”

DATES: CDC must receive written comments on or before May 4, 2018.

ADDRESSES: You may submit comments, identified by Docket No. CDC-2018-0017 by any of the following methods:

• Federal eRulemaking Portal: Regulations.gov. Follow the instructions for submitting comments.

• Mail: Leroy A. Richardson, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Minimum Data Elements (MDEs) for the National Breast and Cervical Cancer Early Detection Program (NBCCEDP)—(OMB Control Number 0920-0571, exp. 12/31/2018)—Revision—National Center for Chronic Disease Prevention and Health Promotion (NCCDPHP), Centers for Disease Control and Prevention (CDC)

Background and Brief Description

CDC seeks to request a three-year OMB approval to revise the information collection project approved under OMB Control number 0920-0571. Based on feedback from grantees and internal subject matter experts, CDC proposes use of revised minimum data elements (MDEs), which decrease the estimated annualized time burden.

Both breast and cervical cancers are prevalent among U.S. women. In 2014, more than 236,000 women were diagnosed with breast cancer, and more than 12,000 women were diagnosed with cervical cancer. Evidence shows that deaths from both breast and cervical cancers can be avoided by increasing women screening services (mammography and Pap tests). However, women who are under- or uninsured, have no regular source of healthcare, and/or have recently immigrated to the U.S. typically underutilize screening services.

Congress passed the Breast and Cervical Cancer Mortality Prevention Act of 1990, which directed CDC to establish the National Breast and Cervical Cancer Early Detection Program (NBCCEDP). The purpose of the NBCCEDP is to increase breast and cervical cancer screening rates among priority populations by funding grantees to provide breast and cervical cancer screening services to eligible women. The NBCCEDP funds 70 grantees including state health departments and the District of Columbia, universities, and tribes or tribal organizations.

Priority populations for the NBCCEDP include women residing within defined geographical locations (as determined by the funded program) who are (1) at or below 250% of the federal poverty level, (2) aged 40-64 years for breast cancer services, and aged 21-64 years for cervical cancer services, and (3) under- or uninsured.

CDC issued a new funding opportunity announcement to support a 5-year cooperative agreement under CDC-RFA-DP17-1701. The number of grantees will increase from 67 grantees to 70 grantees. The current program includes a stronger focus on grantees partnering with health systems to increase breast and cervical cancer screening rates.

CDC proposes a revision to the MDEs to include removal of several data variables that are no longer relevant for CDC analyses, as well as collapsing/revising several data variables to reduce burden and increase clarity for respondents. The MDEs focus on the following areas: (1) Patient demographics; (2) breast cancer screening; (3) cervical cancer screening; (4) breast and cervical cancer diagnoses; (5) breast and cervical cancer treatment; (6) timeliness of services; and (7) patient navigation.

Redesigned data elements will enable CDC to better gauge progress in meeting clinical service delivery processes and patient-level outcomes. Findings will allow CDC to assess program progress in meeting goals and monitor implementation activities, evaluate outcomes, and identify grantee technical assistance needs. In addition, data collected will inform program improvement and help identify successful activities that need to be maintained, replicated, or expanded.

The total estimated annualized burden hours will decrease from 536 to 350 hours. There are no costs to respondents other than their time.

Estimated Annualized Burden Hours
Type of respondent | Form name | Number of respondents | Number of responses per respondent | Average burden per response (in hours) | Total burden (in hours)
NBCCEDP Grantees | MDEs | 70 | 2 | 2.50 | 350
Total |  |  |  |  | 350

Leroy A. Richardson,
Chief, Information Collection Review Office, Office of Scientific Integrity, Office of the Associate Director for Science, Office of the Director, Centers for Disease Control and Prevention.

[FR Doc. 2018-04330 Filed 3-2-18; 8:45 am]

BILLING CODE 4163-18-P